NUCLEAR WASTE TECHNICAL REVIEW BOARD

Board Meeting: May 8-9, 2001—Arlington, Virginia

Discussions of questions on important technical issues related to the DOE's Yucca Mountain site-evaluation efforts, including analysis of alternative repository designs, performance assessment of the natural and engineered components of a repository system, and evaluation of the effects of corrosion products on the waste package environment. Updates on scientific and engineering studies and on studies dating fluid inclusions at Yucca Mountain.

Pursuant to its authority under section 5051 of Public Law 100-203, Nuclear Waste Policy Amendments Act of 1987, on Tuesday, May 8, and Wednesday, May 9, 2001, the Nuclear Waste Technical Board (Board) will hold a meeting in Arlington, Virginia, to discuss U.S. Department of Energy (DOE) efforts to characterize a site at Yucca Mountain, Nevada, as the possible location of a permanent repository for spent nuclear fuel and high-level radioactive waste. At the meeting, the DOE will present updates on important aspects of its technical and scientific program by answering questions posed by the Board on important technical issues related to the evaluation of the Yucca Mountain site. The meeting is open to the public, and opportunities for public comment will be provided. The Board is charged by Congress with reviewing the technical and scientific validity of DOE activities related to managing spent nuclear fuel and high-level radioactive waste.

The Board meeting will be held at the Hilton Arlington & Towers; 950 North Stafford Street; Arlington, Virginia 22203. The telephone number is (703) 528-6000; the fax number is (703) 812-5127. The meeting sessions will start at 8 a.m. on both days.

The morning session on Tuesday, May 8, will begin with a general overview of the DOE program and a briefing on revisions to the Yucca Mountain project's fiscal year 2001 work plan. These presentations will be followed by updates on the DOE's analysis of alternative repository designs, including the criteria used to compare and evaluate the designs, and on the DOE's uncertainty study interim report. After lunch, the DOE will discuss efforts to develop multiple lines of evidence for increasing confidence in the repository safety case. The DOE then will address Board questions related to performance assessment; first on aspects of the natural system and then on the engineered system. The questions on the natural system involve the long-term climate model and its possible effects on several aspects of repository performance assessment. The questions on the engineered barrier system (EBS) relate to differences in the performance of EBS components as designed and their performance as installed, to the potential consequences if weld treatment technologies needed for the waste packages are not perfected, to the effects of failure of the drip shields on repository and waste package performance, to the effects of corrosion products on the postclosure waste package environment, and to the effects on certain design parameters of a cooler repository design.

The session on Wednesday, May 9, will begin with an update of scientific and engineering activities at the Yucca Mountain site and will be followed by a briefing on corrosion investigations conducted by the Nuclear Regulatory Commission's Center for Nuclear Waste Regulatory Analysis. The Board then will hear from scientists from the University of Nevada-Las Vegas, the State of Nevada, the U.S. Geological Survey, and the Virginia Polytechnic Institute and State University on a joint DOE-State of Nevada study dating fluid inclusions at Yucca Mountain. The session is scheduled to end at approximately 1:15 p.m.

Opportunities for public comment will be provided before adjournment on both days. Those wanting to speak during the public comment periods are encouraged to sign the “Public Comment Register” at the check-in table. A time limit may have to be set on individual remarks, but written comments of any length may be submitted for the record. Interested parties also will have the opportunity to submit questions in writing to the Board. As time permits, the questions will be answered during the meeting.

A detailed agenda will be available approximately one week before the meeting. Copies of the agenda can be requested by telephone or obtained from the Board's Web site at www.nwtrb.gov. Beginning on June 11, 2001, transcripts of the meeting will be available on the Board's Web site, via e-mail, on computer disk, and on a library-loan basis in paper format from Davonya Barnes of the Board staff.

A block of rooms has been reserved at the Arlington Hilton & Towers. When making a reservation, please state that you are attending the Nuclear Waste Technical Review Board meeting. For more information, contact the NWTRB; Karyn Severson, External Affairs; 2300 Clarendon Boulevard, Suite 1300; Arlington, VA 22201-3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high level radioactive waste. In the same legislation, Congress directed the DOE to characterize a site at Yucca Mountain, Nevada, to determine its suitability as the location of a potential repository for the permanent disposal of spent nuclear fuel and high-level radioactive waste.

Dated: April 2, 2001.
William D. Barnard,
Executive Director, Nuclear Waste Technical Review Board.

[FR Doc. 01-8476 Filed 4-5-01; 8:45 am]

BILLING CODE 6820-AM-M